DEPARTMENT OF THE INTERIOR

Bureau of Land Management

[LLNVL00000 L12320000.DA0000.LVRDNV130000.16X; 13-08807; MO# 4500096440; TAS: 16X1125]

Notice of Individual Special Recreation Permit Requirement and Cave Closures on Public Lands in Lincoln, Nye, and White Pine Counties, Nevada

AGENCY: Bureau of Land Management, Interior.

ACTION: Notice.

SUMMARY: Notice is hereby given that the Bureau of Land Management (BLM) Ely District Office is establishing a new Individual Special Recreation Permit (ISRP) requirement for recreational use in the Cave Valley Cave, Goshute Cave, and Whipple Cave. This Notice also announces seasonal or temporary cave closures within the Ely District.

DATES: This new ISRP requirement is effective on May 5, 2017. These cave closures will be in effect from June 5, 2017 and will remain in effect until June 5, 2019, unless otherwise rescinded or modified by the Authorized Officer or designated Federal Officer.

FOR FURTHER INFORMATION CONTACT: Michael J. Herder, Ely District Manager, 702 N. Industrial Way, Ely, NV 89301, 775-289-1800, email mherder@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The Federal Cave Resources Protection Act of 1988 (16 U.S.C. 4301) states that significant caves on Federal lands are an invaluable and irreplaceable part of the Nation's natural heritage. In some instances, these significant caves are threatened due to improper use, increased recreational demands, urban spread, and lack of specific statutory protection. As provided by the Act, it is also the policy of the United States that Federal lands be managed in a manner that protects and maintains, to the extent practical, significant caves.

The Ely District encompasses 11.4 million acres of public land in east-central Nevada, on which there are about 40 known undeveloped caves. In addition to the known caves, it is possible that there are many caves left to be discovered. With increasing visitation and increased vandalism, additional measures are needed to effectively protect caves in the District. The Ely District Office has completed the Ely District Cave and Karst Management Plan (Plan) and Environmental Assessment. The Plan provides guidance for cave management and protection in accordance with the Federal Cave Resources Protection Act of 1988, while providing for recreation within caves across the District. The Plan also establishes direction for long-term management, planning, and oversight of the District's cave resources, while identifying site-specific management actions for recreational use, scientific research, and management of cave resources.

The Ely District Office determined which caves to select for closure based on visitor use monitoring and identification of significant resource values. Monitoring of caves in the District has resulted in resource damage concerns resulting from recreational pressures. The new ISRP (referred to as a cave use permit system in the Ely District Plan) is being established to better manage recreational use while providing an opportunity to educate the public on the importance of protecting critical cave resources.

Application procedures for “private noncommercial individual use of special areas” are established here in accordance with 43 CFR 2932.22(b) and OMB control number 1004-0119. Visitors may obtain an office-issued permit in person at the Ely District Office. A permit may also be obtained by phone, or by downloading the application from the Ely District Office Web site and returning it by email, fax or U.S. mail. Self-issued permit stations will be established at Pescio Cave and Leviathan Cave. Each party is required to display the cave use permit on their vehicle's dashboard during their visit to the cave. A limit on the frequency of visitation is set for Cave Valley Cave, Goshute Cave, and Whipple Cave as determined in the site-specific management actions for those caves in the Plan. Based on our understanding of the carrying capacity of caves on the District, the Ely District Office will limit the number of visits and size of groups in the following caves: Cave Valley Cave, Goshute Cave, Leviathan Cave, Pescio Cave, and Whipple Cave.

Notice is also given that the Rose Guano Bat Cave will be closed each year during the bat maternity and migratory season (April 1-November 1); the Cave Valley Cave's side-passage will be closed to protect maternity colonies; and two significant caves on the District (NV-040-003 and NV-040-010) will be closed to protect cave integrity, cultural resources and Native American tribal concerns.

These restrictions do not apply to:

(1) Any Federal, State or local government officer or member of an organized rescue or fire fighting force while in the performance of an official duty.

(2) Any Bureau of Land Management employee, agent, contractor, or cooperator while in the performance of an official duty.

(3) Any Federal, State, local, or contract law enforcement officer, while in the performance of their official duties, or while enforcing this closure notice.

Violation of the requirement to obtain a permit is punishable by a fine and/or imprisonment for a Class A misdemeanor in accordance with 18 U.S.C. 3571 and 3581 et seq.

Any person who violates this closure may be tried before a United States Magistrate and fined in accordance with 18 U.S.C. 3571, imprisoned no more than 12 months under 43 U.S.C. 1733(a) and 43 CFR 8360.0-7, or both. In accordance with 43 CFR 8365.1-7, State or local officials may also impose penalties for violations of Nevada law.

Authority: 43 CFR 2932.13, 2932.22, and 8364.1(a).

Michael J. Herder,
Ely District Manager.

[FR Doc. 2017-09152 Filed 5-4-17; 8:45 am]

BILLING CODE 4310-HC-P